DEPARTMENT OF HOMELAND SECURITY

U.S. Citizenship and Immigration Services

[CIS No. 2542-14; DHS Docket No. USCIS-2014-0001]

RIN 1615-ZB25

Extension of the Re-registration Period for Haiti Temporary Protected Status

AGENCY: U.S. Citizenship and Immigration Services, Department of Homeland Security.

ACTION: Notice; Extension of re-registration period.

SUMMARY: On March 3, 2014, the Secretary of Homeland Security (Secretary) extended the designation of Haiti for Temporary Protected Status (TPS) for a period of 18 months by notice in the Federal Register. The Department of Homeland Security (DHS) established a 60-day re-registration period from March 3, 2014 through May 2, 2014. DHS is extending the re-registration period through July 22, 2014 through this Notice, to maximize re-registration opportunities for those eligible to re-register.

DATES: DHS extended Haiti TPS on March 3, 2014. The re-registration period that was to expire on May 2, 2014, will be extended with a new re-registration filing deadline of July 22, 2014.

FOR FURTHER INFORMATION CONTACT: • For further information on TPS, including guidance on the application process and additional information on eligibility, please visit the USCIS TPS Web page at http://www.uscis.gov/tps. You can find specific information about the extension of the TPS designation for Haiti and the extension of the re-registration period by selecting “TPS Designated Country: Haiti” from the menu on the left of the TPS Web page. On the Haiti TPS Web page, there is a link to the Federal Register notice at 79 FR 11808 (March 3, 2014) that provides detailed information and procedures to re-register for Haiti TPS.

• You can also contact the TPS Operations Program Manager at the Family and Status Branch, Service Center Operations Directorate, U.S. Citizenship and Immigration Services, Department of Homeland Security, Mail Stop 2060, Washington, DC 20529-2060; or by phone at (202) 272-1533 (this is not a toll-free number). Note: The phone number provided here is solely for questions regarding this TPS notice. It is not for individual case status updates.

• Applicants seeking information about the status of their individual cases can check Case Status Online, available at the USCIS Web site at http://www.uscis.gov, or call the USCIS National Customer Service Center at 800-375-5283 (TTY for the hearing impaired is at 800-767-1833). Service is available in English and Spanish only.

• Further information will also be available at local USCIS offices upon publication of this Notice.

SUPPLEMENTARY INFORMATION:

When did the Secretary extend the TPS designation for Haiti?

On March 3, 2014, the Secretary extended the TPS designation for Haiti for a period of 18 months by notice in the Federal Register. See 79 FR 11808. The extension is effective from July 23, 2014 through January 22, 2016.

Why is the Secretary extending the re-registration period for Haitian TPS beneficiaries?

DHS is extending the re-registration period through July 22, 2014 in order to maximize re-registration opportunities for those eligible to do so. As of April 20, 2014, USCIS had received a low proportion of the expected number of re-registrants. Advocates working with the Haitian community report that the low number of re-registration applications may be due to confusion about the re-registration deadline as many beneficiaries did not realize that they were required to re-register by May 2, 2014 since their Employment Authorization Documents (EADs) have a printed expiration date of July 22, 2014. DHS notes that in a March Federal Register notice, it had auto-extended these EADs for a period of six months. See 79 FR 11808. Providing until July 22, 2014 to file for TPS re-registration will help Haiti TPS beneficiaries who may not have clearly understood DHS' prior public notices that informed them of the initial re-registration deadline. Although DHS is extending the re-registration deadline, Haiti TPS beneficiaries are strongly encouraged to re-register as soon as possible. This is particularly important for those beneficiaries who currently hold an EAD and are requesting a new EAD as part of their re-registration. Although DHS auto-extended existing Haiti TPS EADs for six months, TPS beneficiaries who desire new EADs should file as soon as possible to ensure they receive their updated EADs, with a new validity date, promptly. See 79 FR 11808.

Jeh Charles Johnson,
Secretary.

[FR Doc. 2014-10177 Filed 5-1-14; 8:45 am]

BILLING CODE 9111-97-P